DEPARTMENT OF VETERANS AFFAIRS

[OMB Control No. 2900-0003]

Agency Information Collection Activity Under OMB Review: Application for Burial Benefits (Under 38 U.S.C. Chapter 23)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by October 27, 2025.

ADDRESSES: To submit comments and recommendations for the proposed information collection, please type the following link into your browser: www.reginfo.gov/public/do/PRAMain, select “Currently under Review—Open for Public Comments”, then search the list for the information collection by Title or “OMB Control No. 2900-0003.”

FOR FURTHER INFORMATION CONTACT: VA PRA information: Dorothy Glasgow, 202-461-1084, VAPRA@va.gov.

SUPPLEMENTARY INFORMATION:

Title: The 21P-530EZ Application for Burial Benefits (Under 38 U.S.C. Chapter 23).

OMB Control Number: 2900-0003, https://www.reginfo.gov/public/do/PRASearch.

Type of Review: Revision of a currently approved collection.

Abstract: The VA Form 21P-530EZ gathers the necessary information to determine eligibility for VA burial benefits, including the burial allowance, plot or interment allowance, and transportation reimbursement.

An agency may not conduct or sponsor, and a person is not required to respond to a collection of information unless it displays a currently valid OMB control number. The Federal Register Notice with a 60-day comment period soliciting comments on this collection of information was published at 90 FR 35382, July 25, 2025.

Affected Public: Individuals or Households.

Estimated Annual Burden: 66,028.

Estimated Average Burden per Respondent: 30 minutes.

Frequency of Response: One time.

Estimated Number of Respondents: 132,055.

(Authority: 44 U.S.C. 3501 et seq.)

Shunda Willis,
Acting, VA PRA Clearance Officer, (Alt.) Office of Enterprise and Integration, Data Governance Analytics, Department of Veterans Affairs.

[FR Doc. 2025-18746 Filed 9-25-25; 8:45 am]

BILLING CODE 8320-01-P